Title 3—

The President

Proclamation 11000 of December 31, 2025

Amendments to Adjusting Imports of Timber, Lumber, and Their Derivative Products Into the United States

By the President of the United States of America

A Proclamation

1. On July 1, 2025, the Secretary of Commerce (Secretary) transmitted to me a report on his investigation into the effects of imports of timber, lumber, and their derivative products (collectively, wood products) on the national security of the United States under section 232 of the Trade Expansion Act of 1962, as amended, 19 U.S.C. 1862 (section 232). Based on the facts considered in that investigation, the Secretary found and advised me of his opinion that wood products are being imported into the United States in such quantities and under such circumstances as to threaten to impair the national security of the United States and provided recommendations for action under section 232 to adjust the imports of wood products so that such imports will not threaten to impair the national security of the United States.

2. In Proclamation 10976 of September 29, 2025 (Adjusting Imports of Timber, Lumber, and Their Derivative Products Into the United States), I concurred in the Secretary's finding that wood products are being imported into the United States in such quantities and under such circumstances as to threaten to impair the national security of the United States and adopted a plan of action to adjust the imports of wood products so that such imports will not threaten to impair the national security of the United States.

3. In Proclamation 10976, I directed the United States Trade Representative (Trade Representative), in consultation with the Secretary and any senior official the Trade Representative deemed appropriate, to pursue negotiations of agreements or continue current negotiations of agreements to address the threatened impairment of the national security with respect to imported wood products from any country and from time to time update me on the status or outcome of those negotiations. I also imposed a 10 percent ad valorem tariff on imports of certain softwood timber and lumber and a 25 percent ad valorem tariff on imports of certain upholstered wooden products, kitchen cabinets, and vanities. I further stated that on January 1, 2026, the duty rate for upholstered furniture would increase from 25 percent to 30 percent and the duty rate for kitchen cabinets and vanities would increase from 25 percent to 50 percent except for countries with which the United States reached an agreement that addresses the threatened impairment of the national security posed by imports of wood products.

4. The Trade Representative has informed me that the United States continues to engage in productive negotiations of agreements with multiple countries to address the threatened impairment of the national security with respect to imports of wood products. After considering the information the Trade Representative has provided me, among other things, I determine that it is necessary and appropriate to continue these negotiations and to delay for an additional year the increase in the duty rates for upholstered furniture, kitchen cabinets, and vanities. In my judgment, the action in this proclamation will result in more productive negotiations of agreements to address the threatened impairment to the national security found in Proclamation 10976, while the tariffs imposed in Proclamation 10976 will continue to adjust the imports of wood products and address the threat to impair the national security found in Proclamation 10976.

5. Section 232 authorizes the President to take action to adjust the imports of an article and its derivatives that are being imported into the United States in such quantities or under such circumstances as to threaten to impair the national security. Section 232 includes the authority to adopt and carry out a plan of action, with adjustments over time, to address the national security threat. That initial plan of action may include negotiations of agreements with foreign trading partners along with other actions to adjust imports to address the national security threat, including tariffs.

NOW, THEREFORE, I, DONALD J. TRUMP, President of the United States of America, by the authority vested in me by the Constitution and the laws of the United States of America, including section 232, and section 301 of title 3, United States Code, do hereby proclaim as follows:

(1) Proclamation 10976 is amended by revising clause 5 to read as follows:

“(5) The rates of duty established in this proclamation shall apply with respect to goods entered for consumption, or withdrawn from warehouse for consumption, on or after 12:01 a.m. eastern daylight time on October 14, 2025. Effective January 1, 2027, the duty rate in clause 2 shall increase to 30 percent and the duty rate in clause 3 shall increase to 50 percent, and shall continue in effect, except for countries with which the United States reaches an agreement that addresses the threatened impairment of the national security posed by imports of wood products. Except as otherwise provided in this proclamation, the tariffs imposed in this proclamation are in addition to any other duties, taxes, fees, exactions, and charges applicable to such imported wood products.”

(2) The Trade Representative, in consultation with the Secretary and any senior official the Trade Representative deems appropriate, shall pursue negotiations of agreements or continue current negotiations of agreements to address the threatened impairment of the national security with respect to imported wood products from any country. The Trade Representative shall, from time to time, update me on the status or outcome of the negotiations described in Proclamation 10976 and this proclamation. The Trade Representative shall provide one of these updates shortly before the date that is 180 days after the date of Proclamation 10976.

(3) Any provision of previous proclamations and Executive Orders that is inconsistent with the actions taken in this proclamation is superseded to the extent of such inconsistency. If any provision of this proclamation or the application of any provision to any individual or circumstance is held to be invalid, the remainder of this proclamation and the application of its provisions to any other individuals or circumstances shall not be affected.

IN WITNESS WHEREOF, I have hereunto set my hand this thirty-first day of December, in the year of our Lord two thousand twenty-five, and of the Independence of the United States of America the two hundred and fiftieth.

[FR Doc. 2026-00327

Filed 1-8-26; 11:15 am]

Billing code 3395-F4-P